INTERNATIONAL TRADE COMMISSION

[Investigation Nos. 701-TA-513 and 731-TA-1249 (Review)]

Sugar From Mexico

Determinations

On the basis of the record ¹ developed in the subject five-year reviews, the United States International Trade Commission (“Commission”) determines, pursuant to the Tariff Act of 1930 (“the Act”), that termination of the suspended investigations on imports of sugar from Mexico would be likely to lead to continuation or recurrence of material injury within a reasonably foreseeable time.

¹ The record is defined in sec. 207.2(f) of the Commission's Rules of Practice and Procedure (19 CFR 207.2(f)).

Background

The Commission instituted these reviews on November 29, 2019 (84 FR 65841) and determined on March 3, 2020 that it would conduct expedited reviews (85 FR 15224, March 17, 2020).

The Commission made these determinations pursuant to section 751(c) of the Act (19 U.S.C. 1675(c)). It completed and filed its determinations in these reviews on April 21, 2020. The views of the Commission are contained in USITC Publication 5045 (April 2020), entitled Sugar from Mexico: Investigation Nos. 701-TA-513 and 731-TA-1249 (Review).

By order of the Commission.
Issued: April 21, 2020.
Lisa Barton,
Secretary to the Commission.

[FR Doc. 2020-08733 Filed 4-23-20; 8:45 am]

BILLING CODE 7020-02-P